DEPARTMENT OF HEALTH AND HUMAN SERVICES

Substance Abuse and Mental Health Services Administration

Center for Mental Health Services; Notice of Meeting

Pursuant to Pub. L. 92-463, notice is hereby given of the meeting of the Center for Mental Health Services (CMS) National Advisory Council in September 2001.

A portion of the meeting will be open and will include a roll call, general announcements, and discussion about consumer affairs and consumer technical assistance centers, the grant application process, the New Freedom initiative, children and systems of care, financing trends and public mental health services, and the recently released supplement on culture, race and ethnicity to the Surgeon General's Report on mental health.

Public comments are welcome. Please communicate with the individual listed as contact below for guidance. If anyone needs special accommodations for persons with disabilities please notify the contact listed below.

The meeting will also include the review, discussion, and evaluation of grant applications. Therefore a portion of the meeting will be closed to the public as determined by the SAMHSA Administrator, in accordance with Title 5 U.S.C. 552b(c)(3), (4) and (6) and 5 U.S.C. App. 2. and 10 (d).

A summary of the meeting and a roster of Council members may be obtained from Ms. Eileen Pensinger, Executive Secretary, CMHS, Room 17C-27, Parklawn Building, Rockville, Maryland 20857, telephone (301) 443-4823.

Committee Name: CMHS National Advisory Council.

Meeting Date: September 6-7, 2001.

Place: The Double Tree Hotel, 1750 Rockville Pike, Rockville, Maryland.

Type:

Closed: September 6, 2001—8:30 a.m.-12:00 p.m.

Open: September 6, 2001—1:00 p.m.-5:00 p.m.

Open: September 7, 2001—8:30 a.m.-4:00 p.m.

Contact: Eileen S. Pensinger, M.Ed., Executive Secretary, 5600 Fishers Lane, Parklawn Building, Room 17C-27, Rockville, Maryland 20857, Telephone: (301) 443-4823 and FAX (301) 443-4865.

This notice is being published less than 15 days prior to the meeting due to the urgent need to met timing limitations imposed by the review and funding cycle.

Toian Vaughn,
Committee Management Officer, Substance Abuse and Mental Health Services Administration.

[FR Doc. 01-21968 Filed 8-30-01; 8:45 am]

BILLING CODE 4162-20-P